DEPARTMENT OF LABOR

Office of the Secretary

Submission for OMB Review: Comment Request

November 24, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Notice to Participants and Beneficiaries and the Federal Government to Electing One Percent Increased Cost Exemption.

OMB Number: 1210-0105.

Frequency: On occasion.

Type of Response: Reporting; Record keeping; and Third party disclosure.

Affected Public: Business or other for-profit; Not-for-profit institutions; and Individuals or households.

Number of Respondents: 10.

Number of Annual Responses: 10,000.

Estimated Time Per Response: 2 minutes.

Total Burden Hours: 333.

Total Annualized capital/startup costs: $0.

Total Annual Costs (operating/maintaining systems or purchasing services): $5,000.

Description: The Mental Health Parity Act of 1996 (Pub. L. 104-204) requires that group health plans provide parity in the application of dollar limits between mental health and medical/surgical benefits. The statute exempts plans from this requirement if its application results in an increase in the cost under the plan or coverage by at least one percent. The Interim Final Rules under 29 CFR 2590.712(f)(3)(i) and (ii) require a group health plan electing to take advantage of this exemption to provide a written notice to participants and beneficiaries and to the federal government of the plan's election. To satisfy the requirements to notify the federal government, a group health plan may either send the Department a copy of the summary of material reductions in covered services or benefits sent to participants and beneficiaries, or the plan may use the Department's model notice published in the Interim Final Rule which was developed for this purpose.

Ira L. Mills,
Departmental Clearance Officer.

[FR Doc. 04-26450 Filed 11-30-04; 8:45 am]

BILLING CODE 4510-29-P